DEPARTMENT OF THE INTERIOR

Office of the Secretary

Proposed Appointment of Norman H. DesRosiers to the National Indian Gaming Commission

AGENCY: Office of the Secretary, Interior.

ACTION: Notice of proposed appointment.

SUMMARY: The Indian Gaming Regulatory Act provides for a three-person National Indian Gaming Commission. One member, the chairman, is appointed by the President with the advice and consent of the Senate. Two associate members are appointed by the Secretary of the Interior. Before appointing members, the Secretary is required to provide public notice of a proposed appointment and allow a comment period. Notice is hereby given of the proposed appointment of Norman H. DesRosiers as an associate member of the National Indian Gaming Commission for a term of 3 years.

DATES: Comments must be received before January 5, 2007.

ADDRESSES: Comments should be submitted to the Director, Office of Executive Secretariat, United States Department of the Interior, 1849 C Street, NW., Mail Stop 7229, Washington, DC 20240.

FOR FURTHER INFORMATION CONTACT: Tim Murphy, Division of General Law, United States Department of the Interior, 1849 C Street NW., Mail Stop 7315, Washington, DC 20240; telephone 202-208-5216.

SUPPLEMENTARY INFORMATION: The Indian Gaming Regulatory Act, 25 U.S.C. 2701 et seq., established the National Indian Gaming Commission (Commission), composed of three full-time members. 25 U.S.C. 2704(b). Commission members serve for a term of 3 years. 25 U.S.C. 2705(b)(2)(4)(A). The Chairman is appointed by the President with the advice and consent of the Senate. 25 U.S.C. 2704(b)(1)(B). The two associate members are appointed by the Secretary of the Interior. 25 U.S.C. 2704(b)(1)(B). Before appointing an associate member to the Commission, the Secretary is required to “publish in the Federal Register the name and other information the Secretary deems pertinent regarding a nominee for membership on the commission and * * * allow a period of not less than thirty days for receipt of public comments.” 25 U.S.C. 2704(b)(2)(B).

Notice is hereby given of the proposed appointment of Norman H. DesRosiers as an associate member of the Commission for a term of 3 years. Mr. DesRosiers is well qualified to serve as a member of the Commission. Mr. DesRosiers is currently Commissioner of the Viejas Gaming Commission, a position to which he was first appointed in 1998. Mr. DesRosiers developed the commission and wrote its ordinances and its regulations. He developed an organization with 50 regulators and a $4 million budget. From 1994 to 1998, Mr. DesRosiers was executive director of the San Carlos Apache Tribal Gaming Commission, which he also established, promulgating regulations and hiring and training inspectors and support staff. He also served as supervisor of inspectors at the Fort McDowell Gaming Commission. From 1982 to 1984, Mr. DesRosiers owned and managed a private investigation firm. From 1970 to 1979, Mr. DesRosiers served at the Lynnwood, Washington Police Department, concluding his service as a sergeant. Between 1968 and 1970, Mr. DesRosiers served in the United States Army, where he earned the rank of Sergeant.

Mr. DesRosiers has served on two advisory committees reporting to the Commission. He received a bachelor's degree in law and justice from the Central Washington State University in 1975.

Mr. DesRosiers does not have any financial interests that would make him ineligible to serve on the Commission under 25 U.S.C. 2704(b)(5)(B) or (C).

Any person wishing to submit comments on this proposed appointment of Norman H. DesRosiers may submit written comments to the address listed above. Comments must be received by January 5, 2007.

Dated: November 29, 2006.
David L. Bernhardt,
Solicitor.

[FR Doc. E6-20592 Filed 12-5-06; 8:45 am]

BILLING CODE 4310-17-P